DEPARTMENT OF TRANSPORTATION

Federal Aviation Administration

Request for Public Comment, Raleigh County Memorial Airport, Beckley, WV

AGENCY: Federal Aviation Administration (FAA), DOT.

ACTION: Request for public comment.

SUMMARY: The Federal Aviation Administration is requesting public comment on the proposed release of 549.63 acres of land currently owned by the Raleigh County Commission, Sponsor for the Raleigh County Memorial Airport, Beckley, West Virginia. The parcel is located off the northwest end of the airport and descends in to “Fat Creek Gorge” to a depth in excess of 600ft below the airport elevation and has no aeronautical benefit. The land is dormant, no infrastructure exists and land has no practical use. Due to terrain, no future development opportunities exist for the airport. Once released, the land will be sold and placed in a Conservation Easement, with restriction of no future development. Proposed buyer would be placing the area of request in a conservation easement for wildlife enhancement, with no adverse impact to the airport. Land will remain as compatible use to the airport. Land will be sold as surface rights only, no conveyance of mineral rights. The airport land being released is not needed for airport development as shown on the Airport Layout Plan. Fair Market Value has been determined based upon an appraisal of the Property.

DATES: Comments must be received on or before July 27, 2012.

ADDRESSES: Comments on this application may be mailed or delivered in triplicate to the FAA at the following address: Connie Boley-Lilly, Program Specialist, Federal Aviation Administration, Beckley Airport Field Office, 176 Airport Circle, Room 101, Beaver, West Virginia 25813.

In addition, one copy of any comments submitted to the FAA must be mailed or delivered to Mr. Tom Cochran, Airport Manager of the Raleigh County Memorial Airport at the following address: Thomas Cochran, Airport Manager, Raleigh County Memorial Airport, 176 Airport Circle, Room 105, Beaver, West Virginia 25813.

FOR FURTHER INFORMATION CONTACT: Connie Boley-Lilly, Program Specialist, Beckley Airport Field Office, (304) 252-6216 ext. 125, Fax (304) 253-8028. Email: Connie.Boley-Lilly@FAA.GOV.

SUPPLEMENTARY INFORMATION: The FAA proposes to rule and invites public comment on the request to release property at the Raleigh County Memorial Airport, Beckley, WV. Under the provisions of AIR 21 (49 U.S.C. 47108(h)(2)).

The Raleigh County Memorial Airport is proposing the release of approximately 549.6 acres of a ‘surface rights only' release to be sold and land then placed in a Conservation Easement with restriction of no future development. The release and sale of this property will allow the Sponsor to take advantage of un-useable land and use the proceeds for that sale, for the future development of the airport.

Issued in Beckley, West Virginia on May 3, 2012.
Matthew P. DiGiulian,
Manager, Beckley Airport Field Office, Eastern Region.

[FR Doc. 2012-15616 Filed 6-26-12; 8:45 am]

BILLING CODE P